UNITED STATES INTERNATIONAL TRADE COMMISSION

[USITC SE-03-006]

Sunshine Act Meeting

AGENCY: United States International Trade Commission.

Time and Date: March 11, 2003 at 11 a.m.

Place: Room 101, 500 E Street SW., Washington, DC 20436, Telephone: (202) 205-2000.

Status: Open to the public.

Matters to be considered: 1. Agenda for future meetings: none.

2. Minutes.

3. Ratification List.

4. Inv. Nos. 701-TA-355 and 731-TA-659-660 (Review) (Remand) (Grain-Oriented Silicon Electrical Steel from Italy and Japan)—briefing and vote. (The Commission is currently scheduled to transmit its determination and Commissioners' views on remand to the U.S. Court of International Trade on or before March 24, 2003).

5. Outstanding action jackets: none.

In accordance with Commission policy, subject matter listed above, not disposed of at the scheduled meeting, may be carried over to the agenda of the following meeting.

Issued: February 27, 2003.
By order of the Commission:
Marilyn R. Abbott,
Secretary to the Commission.

[FR Doc. 03-5182 Filed 2-28-03; 2:08 pm]

BILLING CODE 7020-02-P